DEPARTMENT OF THE INTERIOR

Fish and Wildlife Service

[Docket No. FWS-HQ-IA-2018-0017; FXIA16710900000-178-FF09A30000]

Foreign Endangered Species; Receipt of Permit Applications

AGENCY: Fish and Wildlife Service, Interior.

ACTION: Notice of receipt of permit applications.

SUMMARY: We, the U.S. Fish and Wildlife Service, invite the public to comment on applications to conduct certain activities with foreign species that are listed as endangered under the Endangered Species Act (ESA). With some exceptions, the ESA prohibits activities with listed species unless Federal authorization is acquired that allows such activities. The ESA also requires that we invite public comment before issuing permits for endangered species.

DATES: We must receive comments by October 15, 2018.

ADDRESSES: Obtaining Documents: The applications, application supporting materials, and any comments and other materials that we receive will be available for public inspection at http://www.regulations.gov in Docket No. FWS-HQ-IA-2018-0017.

Submitting Comments: When submitting comments, please specify the name of the applicant and the permit number at the beginning of your comment. You may submit comments by one of the following methods:

• Internet: http://www.regulations.gov. Search for and submit comments on Docket No. FWS-HQ-IA-2018-0017.

• U.S. mail or hand-delivery: Public Comments Processing, Attn: Docket No. FWS-HQ-IA-2018-0017; U.S. Fish and Wildlife Service Headquarters, MS: BPHC; 5275 Leesburg Pike; Falls Church, VA 22041-3803.

For more information, see Public Comment Procedures under SUPPLEMENTARY INFORMATION.

FOR FURTHER INFORMATION CONTACT: Brenda Tapia, by phone at 703-358-2104, via email at DMAFR@fws.gov, or via the Federal Relay Service at 800-877-8339.

SUPPLEMENTARY INFORMATION:

I. Public Comment Procedures

A. How do I comment on submitted applications?

You may submit your comments and materials by one of the methods in ADDRESSES. We will not consider comments sent by email or fax, or to an address not in ADDRESSES. We will not consider or include in our administrative record comments we receive after the close of the comment period (see DATES).

When submitting comments, please specify the name of the applicant and the permit number at the beginning of your comment. Please make your requests or comments as specific as possible, confine your comments to issues for which we seek comments in this notice, and explain the basis for your comments. Provide sufficient information to allow us to authenticate any scientific or commercial data you include. The comments and recommendations that will be most useful and likely to influence agency decisions are: (1) Those supported by quantitative information or studies; and (2) those that include citations to, and analyses of, the applicable laws and regulations.

B. May I review comments submitted by others?

You may view and comment on others' public comments on http://www.regulations.gov, unless our allowing so would violate the Privacy Act (5 U.S.C. 552a) or Freedom of Information Act (5 U.S.C. 552).

C. Who will see my comments?

If you submit a comment via http://www.regulations.gov, your entire comment, including any personal identifying information, will be posted on the website. If you submit a hardcopy comment that includes personal identifying information, such as your address, phone number, or email address, you may request at the top of your document that we withhold this information from public review. However, we cannot guarantee that we will be able to do so. All submissions from organizations or businesses, and from individuals identifying themselves as representatives or officials of organizations or businesses, will be made available for public disclosure in their entirety.

II. Background

To help us carry out our conservation responsibilities for affected species, and in consideration of section 10(a)(1)(A) of the Endangered Species Act of 1973, as amended (ESA; 16 U.S.C. 1531 et seq.), we invite public comments on permit applications before final action is taken. With some exceptions, the ESA prohibits activities with listed species unless Federal authorization is acquired that allows such activities. Permits issued under section 10 of the ESA allow activities for scientific purposes or to enhance the propagation or survival of the affected species.

III. Permit Applications

We invite the public to comment on the following applications.

Applicant: Gorilla Doctors, Baltimore, MD; Permit No. 77544C

The applicant requests a permit to import scientific samples from wild mountain gorillas (Gorilla beringei beringei), eastern lowland gorillas (Gorilla beringei graueri), western lowland gorillas (Gorilla gorilla gorilla), bonobos (Pan paniscus), common chimps (Pan troglodytes), and L'hoest's monkeys (Cercopithecus l'hoesti) from the Democratic Republic of the Congo, Rwanda, and Uganda, for the purpose of scientific research. This notification covers activities to be conducted by the applicant over a 5-year period.

Trophy Applicants

The following applicants requests permits to import a sport-hunted trophies of male bontebok (Damaliscus pygargus pygargus) culled from a captive herd maintained under the management program of the Republic of South Africa, for the purpose of enhancing the propagation or survival of the species.

Applicant: Carolyn Kimbro, Smyrna, GA; Permit No. 77185C

Applicant: Mark Pirkle, Blanket, TX; Permit No. 76772C

Applicant: Stewart Schanzenbach, Grand Forks, ND; Permit No. 73080C

Applicant: Bruce Pultz, Watertown, NY; Permit No. 63052C

Applicant: Timothy Cerow, Watertown, NY; Permit No. 63051C

Applicant: Geoffrey Corn, Springfield, CO; Permit No. 70482C

Applicant: David Sanson, Walnut Creek, CA; Permit No. 73144C

Applicant: Janelle Manion, Anchorage, AK; Permit No. 74740C

Applicant: Matthew Severs, Park City, KY; Permit No. 75883C

Applicant: Stephen Leblanc, Parker, CO; Permit No. 75904C

Applicant: AnnMarie Meyer, Macomb, IL; Permit No. 75905C

Applicant: Brian Johnson, Tucson, AZ; Permit No. 69508C

Applicant: Mark Hettervig, Oregon City, OR; Permit No. 69673C

Applicant: Ernest Dosio, Lodi, CA; Permit No. 62557C

Applicant: Christian Rothermel, Mohnton, PA; Permit No. 54295C

IV. Next Steps

If we issue permits to any of the applicants listed in this notice, we will publish a notice in the Federal Register. You may locate the notice announcing the permit issuance date by searching http://www.regulations.gov for the permit number listed above in this document (e.g., #####X).

V. Authority

We issue this notice under the authority of the Endangered Species Act of 1973, as amended (16 U.S.C. 1531 et seq.), and its implementing regulations.

Brenda Tapia,
Program Analyst/Data Administrator, Branch of Permits, Division of Management Authority.

[FR Doc. 2018-20009 Filed 9-13-18; 8:45 am]

BILLING CODE 4333-15-P